DEPARTMENT OF HEALTH AND HUMAN SERVICES

[Document Identifier: OS-0990-0460]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 28, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-0460-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Office of Adolescent Health Pregnancy Assistance Fund (PAF) Performance Measures Data Collection, FY2018-FY2020.

Type of Collection: Revision.

OMB No.: 0990-0460.

Abstract: The Office of Adolescent Health seeks a revision of the Pregnancy Assistance Fund (PAF) performance measures data collection. A new cohort of 23 PAF grantees was funded in 2018. PAF provides funding to States and Tribes to provide expectant and parenting teens, women, fathers and their families with a seamless network of supportive services to help them complete high school or postsecondary degrees; and to help states improve services to expectant females who experience intimate partner violence or stalking, Additional measures have been proposed for addition to the existing menu of approved measures. A 3 year clearance period is requested. The respondents would be the 23 state and tribal entities receiving PAF awards in 2018. Data would be collected annually.

Estimated Annualized Burden Table
Type of respondent | Number of respondents | Number responses per respondent | Average burden per response (in hours) | Total burden hours
All PAF Grant Recipients (Training Form) | 23 | 1 | 15/60 | 6
All PAF Grant Recipients (Partners Sustainability Form) | 23 | 1 | 210/60 | 81
All PAF Grant Recipients (Reach Demographics Form) | 23 | 1 | 637/60 | 244
All PAF Grant Recipients (Core Services) | 23 | 1 | 9 | 207
All PAF Grant Recipients ( ) | 23 | 1 | 5 | 115
PAF Grantees (Form for Grantees funding State Attorney General offices) | 2 | 1 | 2 | 4
Total | 23 | 1 |  | 657

Terry Clark,
Office of the Secretary, Asst. Paperwork Reduction Act Reports Clearance Officer.

[FR Doc. 2018-28227 Filed 12-27-18; 8:45 am]

BILLING CODE 4168-11-P